DEPARTMENT OF LABOR

Employment and Training Administration

Agency Information Collection Activities; Comment Request; Workforce Innovation and Opportunity Act (WIOA) Common Performance Reporting

ACTION: Notice.

SUMMARY: The Department of Labor's (DOL) Employment and Training Administration (ETA) is soliciting comments concerning a proposed revision for the authority to conduct the information collection request (ICR) titled, “Workforce Innovation and Opportunity Act (WIOA) Common Performance Reporting”. This comment request is part of continuing Departmental efforts to reduce paperwork and respondent burden in accordance with the Paperwork Reduction Act of 1995 (PRA).

DATES: Consideration will be given to all written comments received by August 23, 2024.

ADDRESSES: A copy of this ICR with applicable supporting documentation, including a description of the likely respondents, proposed frequency of response, and estimated total burden, may be obtained free by contacting Kellen Grode by telephone at (202) 693-3534 (this is not a toll-free number), or by email at grode.kellen.m@dol.gov. For persons with a hearing or speech disability who need assistance to use the telephone system, please dial 711 to access telecommunications relay services.

Submit written comments about, or requests for a copy of, this ICR by mail or courier to the U.S. Department of Labor, Employment and Training Administration, Office of Policy Development and Research, 200 Constitution Ave. NW, Room N-5641, Washington, DC 20210; by email: grode.kellen.m@dol.gov.

FOR FURTHER INFORMATION CONTACT: Kellen Grode by telephone at (202) 693-3534, (this is not a toll-free number) or by email at grode.kellen.m@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 116 of WIOA (29 U.S.C. 3141) authorizes this information collection. This information collection requires States and Local Areas that operate the six core programs of the workforce development system to comply with common performance accountability requirements for those programs, which are: the Adult, Dislocated Worker, and Youth programs (title I, administered by DOL); the Wagner-Peyser Act program (title III, administered by DOL); the Adult Education and Family Literacy Act (AEFLA) program (title II, administered by ED); and the Vocational Rehabilitation (VR) program (title IV, administered by ED). As such, States and Local Areas that operate core programs must submit common performance data to demonstrate that specified performance levels are achieved. States and Local Areas will report the common performance data through this ICR.

In addition, and in accordance with WIOA section 122(b)(2), training providers that are eligible to receive funds from Adult and Dislocated Worker programs authorized under title I of WIOA (also known as “eligible training providers” or ETPs) must report data on outcomes achieved under those programs to the State(s) in which they are listed on the State ETP list. States then report the information submitted by ETPs to DOL. The information collection requirements applicable to ETPs are contained in this ICR.

Section 116(d)(1) of WIOA mandates that the Secretaries of Labor and Education develop a template for performance reports to be used by States, local boards, and ETPs for reporting on outcomes achieved by participants in the six core programs. Corresponding joint regulations for these data collection requirements, including which primary performance indicators apply for each core program, have been issued by the Departments. See 81 FR 55792 (Aug. 19, 2016). The final regulations became effective on October 18, 2016. These joint performance regulations can be found at: (1) 20 CFR part 677 (which covers the Adult and Dislocated Worker programs (20 CFR part 680), the Youth program (20 CFR part 681), and the Wagner-Peyser Act program (20 CFR part 652)); (2) 34 CFR part 463, subpart I (which covers the AEFLA program); and (3) 34 CFR part 361, subpart E (which covers the VR program).

The data collection instruments covered in this ICR, are necessary to meet the requirements of section 116 of WIOA. These information collection instruments were developed jointly by the Departments, and include: (1) the Joint Participant Individual Record Layout (PIRL), which provides a standardized set of data elements, definitions, and reporting instructions for use by States and local entities administering WIOA core programs (ETA-9170); (2) the Statewide Performance Report Template, to be used for the reporting of data by State entities that administer WIOA core programs (ETA-9169); (3) the Local Area Performance Report Template, to be used for the reporting of data by local entities that administer WIOA core programs (ETA-9169); (4) the ETP Performance Report specifications and definitions, to be used for the reporting of data by eligible providers of training services under title I Adult and Dislocated Worker programs (ETA-9171); and (5) the Annual Statewide Performance Report Narrative, an information collection requirement to be used for providing information on the status and progress of workforce development program performance.

As a part of this revision request, ETA has made changes to the WIOA Statewide Performance Report Template (ETA-9169), WIOA Joint Participant Individual Record Layout (PIRL) (ETA-9170), and WIOA Eligible Training Provider (ETP) Performance Report Definitions (ETP-9171). DOL is also proposing updates to its DOL-only collection (OMB Control No. 1205-0521) to adhere to the new requirements in OMB's Statistical Policy Directive No. 15 on Race and Ethnicity. Until the Department of Education is able to update its corresponding ICRs, this joint ICR will continue to use the same categories for Race and Ethnicity as previously approved. During the transition period, DOL will combine the Race categories for “White” and “Middle Eastern or North African” into a single “White” category for the WIOA Statewide Performance Report (ETA-9169). Similarly, DOL will continue to calculate “More than one Race” according to the joint ICR for the WIOA Statewide Performance Report (ETA-9169), while using “Multiracial and/or Multiethnic” in the DOL-only Quarterly Performance Reports (ETA-9173).

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Joint WIOA ICR 1205-0526.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Workforce Innovation and Opportunity Act (WIOA) Common Performance Reporting.

Forms: WIOA Statewide Performance Report Template and WIOA Local Performance Report Template (ETA-9169); WIOA Joint Participant Individual Record Layout (PIRL) (ETA-9170); and WIOA Eligible Training Provider (ETP) Performance Report Specifications and WIOA Eligible Training Provider (ETP) Performance Report Definitions (ETP-9171).

OMB Control Number: 1205-0526.

Affected Public: State, Local, and Tribal Governments.

Estimated Number of Respondents: 19,114,129.

Frequency: Varies.

Total Estimated Annual Responses: 38,216,054.

Estimated Average Time per Response: Varies.

Estimated Total Annual Burden Hours: 9,863,057.

Total Estimated Annual Other Cost Burden: $33,300,000.

Authority: 44 U.S.C. 3506(c)(2)(A).

José Javier Rodríguez,
Assistant Secretary for Employment and Training, Labor.

[FR Doc. 2024-13704 Filed 6-21-24; 8:45 am]

BILLING CODE 4510-FN-P